DEPARTMENT OF ENERGY

Federal Energy Regulatory Commission

[Docket Nos. EC06-11-000, et al.]

Liberty Electric Power, LLC, et al.; Electric Rate and Corporate Filings

October 26, 2005.

The following filings have been made with the Commission. The filings are listed in ascending order within each docket classification.

1. Liberty Electric Power, LLC

[Docket No. EC06-11-000, ER01-2398-011]

Take notice that on October 21, 2005, Liberty Electric Power, LLC (Applicant) pursuant to section 203 of the Federal Power Act and part 33 of the Commission' regulations requests prior authorization for the indirect disposition of jurisdictional facilities that will result from transfers of equity interests in Applicant's indirect upstream owner, LEP Holdings, LLC and gives notice of the change in status that will result from the transactions in accordance with the requirements set forth in Order No. 652.

Comment Date: 5 p.m. Eastern Time on November 14, 2005.

2. Orion Power Holdings, Inc., Astoriz Generating Company, L.P., and Astoria Generating Company Acquisitions, L.L.C.

[Docket No. EC06-12-000]

Take notice that on October 21, 2005, Orion Power Holdings, Inc., Astoria Generating Company, L.P. and Astoria Generating Company Acquisitions, L.L.C., (collectively, Applicants), tendered for filing with the Commission, pursuant to section 203 of the Federal Power Act and part 33 of the Commission's regulations, an application for authorization that would allow Astoria Generating Company Acquisitions, L.L.C. to acquire ownership interests in Astoria Generating Company, L.P. Pursuant to 18 CFR § 33.9 (2005), the Applicants seek privileged treatment for Exhibits D and I to the application.

Comment Date: 5 p.m. Eastern Time on November 14, 2005.

3. Select Energy, Inc. and Constellation Energy Commodities Group, Inc.

[Docket No. EC06-13-000]

Take notice that on October 24, 2005, Select Energy, Inc., (Select) and Constellation Energy Commodities Group, Inc. (collectively, Applicants) filed a joint application pursuant to section 203 of the Federal Power Act for disposition of certain wholesale power sales contracts of Select.

Comment Date: 5 p.m. Eastern Time on November 14, 2005.

4. NRG Energy, Inc. and Texas Genco LLC

[Docket No. EC06-14-000]

Take notice that on October 24, 2005, NRG Energy, Inc., on behalf of itself and its public utility subsidiaries (collectively, NRG) and Texas Genco LLC (Texas Genco) submitted an application pursuant to section 203 of the Federal Power Act for authorization of a disposition of jurisdictional facilities whereby the owners of Texas Genco would acquire certain amounts of NRG common stock as part consideration in exchange for the transfer of their interest in Texas Genco to NRG. The Applicants request confidential treatment of certain contracts and written instruments pursuant to which the transaction would be consummated.

Comment Date: 5 p.m. Eastern Time on November 23, 2005.

5. Entegra Power Group LLC, Gila River Power, L.P. and Union Power Partners, L.P.

[Docket No. EC06-15-000]

Take notice that on October 24, 2005, Entegra Power Group LLC, (Entegra), on behalf of itself and its wholly-owned subsidiaries Gila River Power, L.P. and Union Power Partners, L.P. (together with Entegra, Applicants), and on behalf of the current owners of equity interests in Entegra, filed with the Commission an application pursuant to section 203 of the Federal Power Act, requesting authorization for an indirect disposition of FERC-jurisdictional facilities resulting from certain proposed transfers of ownership of equity interests in Entegra.

Comment Date: 5 p.m. Eastern Time on November 15, 2005.

6. Boston Edison Company

[Docket no. EL02-123-008]

Take notice that on October 17, 2005, Boston Edison Company submitted for filing, pursuant to the Commission's Order issued September 15, 2005, changes with respect to the service agreements for the Town of Wellesley and the Town of Concord.

Comment Date: 5 p.m. Eastern Time on November 16, 2005.

7. Luzenac America, Inc.

[Docket No. EL06-8-000]

Take notice that on October 20, 2005, Luzenac America, Inc. (Luzenac), pursuant to section 1290 of the Energy Policy Act of 2005 and Rules 206 and 207 of the Rules of Practice and Procedure of the Federal Energy Regulatory Commission, filed a Petition for Relief relating to a termination payment sought by Enron Power Marketing, Inc. (Enron). In the Petition, Luzenac requests an expeditious determination by FERC that the termination payment sought by Enron from Luzenac is not permitted under Enron's rate schedule or its contract with Luzenac entered into under such rate schedule, or is otherwise unlawful on the grounds that the contract is unjust and unreasonable or contrary to the public interest.

Comment Date: 5 p.m. Eastern Time on November 10, 2005.

8. Midwest Renewable Energy Projects LLC

[Docket No. EL06-9-000]

Take notice that on October 20, 2005, Midwest Renewable Energy Projects LLC submitted to the Commission a petition to for declaratory order regarding the recent amendments to the Public Utility Regulatory Policies Act of 1978.

Comment Date: 5 p.m. Eastern Time on November 10, 2005.

9. Devon Power LLC

[Docket No. ER04-23-014]

Take notice that on October 11, 2005, Devon Power LLC, Middletown Power LLC and Montville Power LLC (collectively, the NRG Companies), pursuant to a deficiency letter issued on July 13, 2005 submitted for filing a reconciliation of their annual informational filing.

Comment Date: 5 p.m. Eastern Time on November 7, 2005.

10. The Detroit Edison Company

[Docket No. TS06-1-000]

Take notice that on October 3, 2005, The Detroit Edison Company (Detroit Edison) filed a request for clarification that it should not be considered a transmission provider subject to the Standards of Conduct promulgated in Order No. 2004. Detroit Edison requests full waiver from the requirements of Order No. 2004, FERC Statutes and Regulations ¶31,355 (2003).

Comment Date: 5 p.m. Eastern Time on November 10, 2005.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-6111 Filed 11-3-05; 8:45 am]

BILLING CODE 6717-01-P